DEPARTMENT OF ENERGY

Federal Energy Regulatory Commission

[Project No. 5261-023]

Green Mountain Power Corporation; Notice of Application Ready for Environmental Analysis and Soliciting Comments, Recommendations, Terms and Conditions, and Prescriptions

Take notice that the following hydroelectric application has been filed with the Commission and is available for public inspection.

a. Type of Application: Subsequent Minor License.

b. Project No.: 5261-023.

c. Date Filed: August 27, 2021.

d. Applicant: Green Mountain Power Corporation.

e. Name of Project: Newbury Hydroelectric Project.

f. Location: On the Wells River, in the town of Newbury, Orange County, Vermont. The project does not occupy any federal land.

g. Filed Pursuant to: Federal Power Act 16 U.S.C. 791(a)-825(r).

h. Applicant Contact: John Greenan, Green Mountain Power Corporation, 2152 Post Road, Rutland, VT 05701; Phone at (802) 770-2195, or email at John.Greenan@greenmountainpower.com.

i. FERC Contact: Adam Peer, (202) 502-8449 or adam.peer@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-5261-023.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

The Council on Environmental Quality (CEQ) issued a final rule on July 15, 2020, revising the regulations under 40 CFR parts 1500-1518 that federal agencies use to implement the National Environmental Policy Act (NEPA) (see Update to the Regulations Implementing the Procedural Provisions of the National Environmental Policy Act, 85 FR 43,304). The Final Rule became effective on and applies to any NEPA process begun after September 14, 2020. Commission staff intends to conduct its NEPA review in accordance with CEQ's new regulations.

l. The Newbury Project consists of: (1) An 11.4-acre impoundment at a normal water surface elevation of 463.9 feet mean sea level; (2) a 26 foot-high by 90-foot-long concrete gravity dam that includes a 73.3-foot-long spillway topped with 5-foot-high pneumatic crest gates; (3) a seasonally installed, 8-foot-long by 4-foot-wide steel sluice box on the south side of the spillway to provide downstream fish passage; (4) an 11.2-foot-wide, 9-foot-long intake structure that includes trash racks with 1-inch clear bar spacing, connected to a 5-foot-diameter, 435-foot-long underground steel penstock; (5) a powerhouse containing a single 315-kilowatt turbine-generator unit (unit 1); (6) a second 50-kilowatt turbine-generator unit (unit 2) located outside of the powerhouse approximately 75-feet downstream of the dam along the bypassed reach; (7) a 125-foot-long tailrace that receives discharges from unit 1; (8) a 130-foot-long underground generator lead from unit 1 and a 410-foot-long generator lead from unit 2 that connect to three above-ground pole mounted 167 kilovolt-ampere step-up transformers; (9) a 3-phase, 7-foot-long transmission line; and (10) appurtenant facilities. The project creates a 590-foot-long bypassed reach of the Wells River.

The current license requires Green Mountain Power Corporation to: (1) Operate the project in run-of-river mode; (2) release a continuous bypassed reach minimum flow of 50 cubic feet per second (cfs) from April 15 to June 10 and 5 cfs during the remainder of the year; (3) release a year-round, continuous aesthetic flow of 5 cfs over the dam; and (4) operate the fish passage chute from April 1 to June 1 and September 1 to November 15 with flows of 20 cfs and 10 cfs, respectively. The average annual generation of the project is approximately 882 megawatt-hours.

Green Mountain Power Corporation proposes to: (1) Continue operating the project in run-of-river mode; (2) release a new bypassed reach minimum flow of 35 cfs from May 15 to October 15 and 30 cfs from October 16 to May 14; (3) release a new aesthetic flow of 10 cfs over the dam from May 15 to October 15 during daytime hours and no aesthetic flow the remainder of the year; (4) operate the fish passage chute from April 1 to June 1 and September 1 to November 15 with new flows of 10 cfs during both operating periods; (5) construct a hand-carry access area for recreational boaters; and (6) consult with the resource agencies prior to conducting maintenance and repairs that have the potential to affect water quality.

m. A copy of the application can be viewed on the Commission's website at http://www.ferc.gov using the “eLibrary” link. Enter the docket number excluding the last three digits in the docket number field to access the document. For assistance, contact FERC Online Support.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

n. The applicant must file no later than 60 days following the date of issuance of this notice either: (1) Evidence of the date on which the certifying agency received the certification request; (2) a copy of the water quality certification; or (3) evidence of waiver of water quality certification.

o. Procedural Schedule: The application will be processed according to the following schedule. Revisions to the schedule will be made as appropriate.

Milestone | Target date
Deadline for filing comments, recommendations, preliminary terms and conditions, and preliminary fishway prescriptions | June 2022.
Deadline for filing reply comments | July 2022.

p. Final amendments to the application must be filed with the Commission no later than 30 days from the issuance date of this notice.

Dated: April 6, 2022.
Kimberly D. Bose,
Secretary.

[FR Doc. 2022-07808 Filed 4-11-22; 8:45 am]

BILLING CODE 6717-01-P